DEPARTMENT OF THE TREASURY

Office of the Comptroller of the Currency

Privacy Act of 1974, as Amended; System of Records

AGENCY: Office of the Comptroller of the Currency, Treasury.

ACTION: Notice of systems of records.

SUMMARY: In accordance with the requirements of the Privacy Act of 1974, as amended, 5 U.S.C. 552a, the Office of the Comptroller of the Currency, Treasury, is publishing its Privacy Act systems of records.

SUPPLEMENTARY INFORMATION: Pursuant to the Privacy Act of 1974 (5 U.S.C. 552a) and the Office of Management and Budget (OMB) Circular No. A-130, the Comptroller of the Currency (OCC) has completed a review of its Privacy Act systems of records notices to identify minor changes that will more accurately describe these records.

This publication incorporates the amendments to Treasury/CC.210—Bank Securities Dealers System; Treasury/CC.220—Notices of Proposed Changes in Employees, Officers and Directors Tracking System (formerly Treasury/CC.220—Section 914 Tracking System); and Treasury/CC.600—Consumer Complaint and Inquiry Information System that were published on September 13, 2011, at 76 FR 56501. This publication also incorporates the Privacy Act systems of records that were formerly Office of Thrift Supervision systems, which the OCC adopted on July 26, 2011, at 76 FR 44656. Other changes throughout the document are editorial in nature and consist principally of revising address information and minor editorial changes. The OCC's systems of records were last published in their entirety on July 18, 2008, at 73 FR 41402-01. The OTS' systems of records were last published in their entirety on June 29, 2009, at 74 FR 31103.

The OCC also gives notice that five OTS systems of records have been retired. Treasury/OTS.001—Confidential Individual Information System and Treasury/OTS.004—Criminal Referral Database, a component of Treasury/OTS.001, were retired by OTS in 1999 and the data contained in these systems was transferred to encrypted CDs that have been archived. Treasury/OTS.005—Employee Counseling Service was a paper-based system that was retired by OTS no later than 2000. The records in that system were destroyed by OTS. Treasury/OTS.008—Employee Training Database was retired by OTS. The data was migrated to the Treasury Learning Management System (TLMS). Any data that could not be transferred to TLMS was archived. Treasury/OTS.011—Positions/Budget was retired by OTS and the data has been archived. The notices pertaining to the five systems of records above, are removed from the Department's inventory of Privacy Act issuances.

Department of the Treasury regulations require the Department to publish the existence and character of all systems of records every three years (31 CFR 1.23(a)(1)). With respect to its inventory of Privacy Act systems of records, the OCC has determined that the information contained in its systems of records is accurate, timely, relevant, complete, and is necessary to maintain the proper performance of a documented agency function.

Systems Covered by This Notice

This notice covers all systems of records adopted by the OCC up to September 13, 2011. The systems notices are reprinted in their entirety following the Table of Contents.

Dated: March 28, 2012.
Melissa Hartman,
Deputy Assistant Secretary for Privacy, Transparency and Records.

The Comptroller of the Currency (OCC)

Table of Contents

CC .100—Enforcement Action Report System

CC .110—Reports of Suspicious Activities

CC .120—Bank Fraud Information System

CC .200—Chain Banking Organizations System

CC .210—Bank Securities Dealers System

CC .220—Notices of Proposed Changes in Employees, Officers and Directors Tracking System

CC .340—Access Control System

CC .500—Chief Counsel's Management Information System

CC .510—Litigation Information System

CC .600—Consumer Complaint and Inquiry Information System

CC .700—Correspondence Tracking System

OTS .002—Correspondence/Correspondence Tracking

OTS .003—Consumer Complaint

OTS .006—Employee Locator File

OTS .012—Payroll/Personnel Systems & Payroll Records

OTS .013—Mass Communication System

OTS .015—Retiree Billing System

TREASURY/CC .100

System Name:

Enforcement Action Report System—Treasury/Comptroller.

System Location:

Office of the Comptroller of the Currency (OCC), Enforcement and Compliance Division, 250 E Street SW., Washington, DC 20219-0001.

Categories of Individuals Covered by the System:

Individuals covered by this system are: (1) Current and former directors, officers, employees, shareholders, and independent contractors of financial institutions who have had enforcement actions taken against them by the OCC, the Board of Governors of the Federal Reserve System, the Federal Deposit Insurance Corporation, the Office of Thrift Supervision, or the National Credit Union Administration;

(2) Current and former directors, officers, employees, shareholders, and independent contractors of financial institutions who are the subjects of pending enforcement actions initiated by the OCC; and

(3) Individuals who must obtain the consent of the Federal Deposit Insurance Corporation pursuant to 12 U.S.C. 1829 to become or continue as an institution-affiliated party within the meaning of 12 U.S.C. 1813(u) of a federally-insured depository institution, a direct or indirect owner or controlling person of such an entity, or a direct or indirect participant in the conduct of the affairs of such an entity.

Categories of Records in the System:

Records maintained in this system may contain the names of individuals, their positions or titles with financial institutions, descriptions of offenses and enforcement actions, and descriptions of offenses requiring Federal Deposit Insurance Corporation approval under 12 U.S.C. 1829.

Authority for Maintenance of the System:

12 U.S.C. 1, 27, 481, 1817(j), 1818, 1820, and 1831i.

Purpose:

This system of records is used by the OCC to monitor enforcement actions and to assist it in its regulatory responsibilities, including review of the qualifications and fitness of individuals who are or propose to become responsible for the business operations of CC-regulated entities.

Routine Uses of Records Maintained in the System, Including Categories of Users and the Purposes of Such Uses:

Information maintained in this system may be disclosed to:

(1) An OCC-regulated entity when the information is relevant to the entity's operations;

(2) Third parties to the extent necessary to obtain information that is relevant to an examination or investigation;

(3) The news media in accordance with guidelines contained in 28 CFR 50.2;

(4) Appropriate governmental or self-regulatory organizations when the OCC determines that the records are relevant and necessary to the governmental or self-regulatory organization's regulation or supervision of financial service providers, including the review of the qualifications and fitness of individuals who are or propose to become responsible for the business operations of such providers;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A congressional office when the information is relevant to an inquiry made at the request of the individual about whom the record is maintained;

(7) A contractor or agent who needs to have access to this system of records to perform an assigned activity;

(8) Third parties when mandated or authorized by statute, or

(9) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records maintained in this system are stored electronically.

Retrievability:

Records maintained in this system may be retrieved by the name of an individual covered by the system.

Safeguards:

Access to electronic records is restricted to authorized personnel who have been issued non-transferrable access codes and passwords.

Retention and Disposal:

Records are retained in accordance with the OCC's records management policies and National Archives and Records Administration regulations.

System Manager and Address:

Director, Enforcement and Compliance Division, Law Department, Office of the Comptroller of the Currency, 250 E Street SW., Washington, DC 20219-0001.

Notification Procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Non-exempt information maintained in this system is obtained from OCC personnel, OCC-regulated entities, other federal financial regulatory agencies, and criminal law enforcement authorities.

Exemptions Claimed for this System:

Records maintained in this system have been designated as exempt from 5 U.S.C. 552a(c)(3), (d)(1), (2), (3), and (4), (e)(1), (e)(4)(G), (H), and (I), and (f) of the Privacy Act pursuant to 5 U.S.C. 552a(k)(2). See 31 CFR 1.36.

TREASURY/CC .110

System Name:

Reports of Suspicious Activities—Treasury/Comptroller.

System Location:

Office of the Comptroller of the Currency (OCC), Enforcement and Compliance Division, 250 E Street SW., Washington, DC 20219-0001. Suspicious Activity Reports (SARs) are managed by the Financial Crimes Enforcement Network (FinCEN), Department of the Treasury, 2070 Chain Bridge Road, Vienna, Virginia 22182, and stored at the IRS Computing Center in Detroit, Michigan. Information extracted from or relating to SARs or reports of crimes and suspected crimes is maintained in an OCC electronic database. This database, as well as the database managed by FinCEN, is accessible to designated OCC headquarters and district office personnel.

Categories of Individuals Covered by the System:

Individuals covered by this system are individuals who have been designated as suspects or witnesses in SARs or reports of crimes and suspected crimes.

Categories of Records in the System:

Records maintained in this system may contain the name of the entity to which a report pertains, the names of individual suspects and witnesses, the types of suspicious activity involved, and the amounts of known losses. Other records maintained in this system may contain arrest, indictment and conviction information, and information relating to administrative actions taken or initiated in connection with activities reported in a SAR or a report of crime and suspected crime.

Authority for Maintenance of the System:

12 U.S.C. 1, 27, 481, 1817(j), 1818, 1820, and 1831i; 31 U.S.C. 5318.

Purpose:

This system of records is used by the OCC to monitor criminal law enforcement actions taken with respect to known or suspected criminal activities affecting OCC-regulated entities. System information is used to determine whether matters reported in SARs warrant the OCC's supervisory action. Information in this system also may be used for other supervisory and licensing purposes, including the review of the qualifications and fitness of individuals who are or propose to become responsible for the business operations of OCC-regulated entities.

Routine uses of records maintained in the system, including categories of users and the purposes of such uses:

Information maintained in this system may be disclosed to:

(1) The Department of Justice through periodic reports containing the identities of individuals suspected of having committed violations of criminal law;

(2) An OCC-regulated entity if the SAR relates to that institution;

(3) Third parties to the extent necessary to obtain information that is relevant to an examination or investigation;

(4) Appropriate governmental or self-regulatory organizations when the OCC determines that the records are relevant and necessary to the governmental or self-regulatory organization's regulation and supervision of financial service providers, including the review of the qualifications and fitness of individuals who are or propose to become responsible for the business operations of such providers;

(5) An appropriate governmental, international, tribal, self-regulatory, or professional organization if the information is relevant to a known or suspected violation of a law or licensing standard within that organization's jurisdiction;

(6) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(7) A contractor or agent who needs to have access to this system of records to perform an assigned activity;

(8) Third parties when mandated or authorized by statute, or

(9) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records maintained in this system are stored electronically.

Retrievability:

Records maintained in this system may be retrieved by the name of an individual covered by the system.

Safeguards:

Access to electronic records is restricted to authorized personnel who have been issued non-transferrable access codes and passwords.

Retention and Disposal:

Records are retained in accordance with the OCC's records management policies and National Archives and Records Administration regulations.

System Managers and Address:

Director, Special Supervision Division, Midsize/Community Bank Supervision, Office of the Comptroller of the Currency, 250 E Street SW., Washington, DC 20219-0001.

Notification Procedure:

An individual wishing to be notified if he or she is named in non-exempt records maintained in this system must submit a written request to the Freedom of Information Act Officer, Communications Division, Mailstop 2-3, Office of the Comptroller of the Currency, 250 E Street SW., Washington, DC 20219-0001. See 31 CFR part 1, subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Non-exempt information maintained in this system is obtained from CC personnel, OCC-regulated entities, other financial regulatory agencies, criminal law enforcement authorities, and FinCEN.

Exemptions Claimed for the System:

Records in this system have been designated as exempt from 5 U.S.C. 552a(c)(3) and (4), (d)(1), (2), (3), and (4), (e)(1), (e)(2), (e)(3), (e)(4)(G), (H), and (I), (e)(5), and (e)(8), (f), and (g) of the Privacy Act pursuant to 5 U.S.C. 552a(j)(2) and (k)(2). See 31 CFR 1.36.

TREASURY/CC .120

System Name:

Bank Fraud Information System—Treasury/Comptroller.

System Location:

Office of the Comptroller of the Currency (OCC), Bank Supervision Operations, 250 E Street SW., Washington, DC 20219-0001.

Categories of Individuals Covered by the System:

Individuals covered by this system are those who submit complaints or inquiries about fraudulent or suspicious financial instruments or transactions or who are the subjects of complaints or inquiries.

Categories of Records in the System:

Records maintained in this system may contain: The name, address, or telephone number of the individual who submitted a complaint or inquiry; the name, address, or telephone number of the individual or entity who is the subject of a complaint or inquiry; the types of activity involved; the date of a complaint or inquiry; and numeric codes identifying a complaint or inquiry's nature or source. Supporting records may contain correspondence between the OCC and the individual or entity submitting a complaint or inquiry, correspondence between the OCC and an OCC-regulated entity, or correspondence between the OCC and other law enforcement or regulatory bodies. Other records maintained in this system may contain arrest, indictment and conviction information, and information relating to administrative actions taken or initiated in connection with complaints or inquiries.

Authority for Maintenance of the System:

12 U.S.C. 1, 27, 481, 1817(j), 1818, 1820, and 1831i; 31 U.S.C. 5318.

Purpose:

This system of records tracks complaints or inquiries concerning fraudulent or suspicious financial instruments and transactions. These records assist the OCC in its efforts to protect banks and their customers from fraudulent or suspicious banking activities.

Routine Uses of Records Maintained in the System, Including Categories of Users and the Purposes of Such Uses:

Information maintained in this system may be disclosed to:

(1) An OCC-regulated entity to the extent that such entity is the subject of a complaint, inquiry, or fraudulent activity;

(2) Third parties to the extent necessary to obtain information that is relevant to the resolution of a complaint or inquiry, an examination, or an investigation;

(3) Appropriate governmental or self-regulatory organizations when the OCC determines that the records are relevant and necessary to the governmental or self-regulatory organization's regulation or supervision of financial service providers;

(4) An appropriate governmental, international, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A congressional office when the information is relevant to an inquiry made at the request of the individual about whom the record is maintained;

(7) A contractor or agent who needs to have access to this system of records to perform an assigned activity;

(8) Third parties when mandated or authorized by statute, or

(9) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records maintained in this system are stored electronically, in card files, and in file folders.

Retrievability:

Records maintained in this system may be retrieved by the name of an individual covered by the system.

Safeguards:

Access to electronic records is restricted to authorized personnel who have been issued non-transferrable access codes and passwords. Other records are maintained in locked file cabinets or rooms.

Retention and Disposal:

Records are retained in accordance with the OCC's records management policies and National Archives and Records Administration regulations.

System Manager and Address:

Director, Special Supervision, Bank Supervision Operations, Office of the Comptroller of the Currency, 250 E Street SW., Washington, DC 20219-0001.

Notification Procedure:

An individual wishing to be notified if he or she is named in non-exempt records maintained in this system must submit a written request to the Freedom of Information Act Officer, Communications Division, Mailstop 2-3, Office of the Comptroller of the Currency, 250 E Street, SW., Washington, DC 20219-0001. See 31 CFR part 1, subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature. Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Non-exempt information maintained in this system is obtained from individuals and entities who submit complaints or inquiries, OCC personnel, OCC-regulated entities, criminal law enforcement authorities, and governmental or self-regulatory bodies.

Exemptions Claimed for the System:

Records maintained in this system have been designated as exempt from 5 U.S.C. 552a(c)(3) and (4), (d)(1), (2), (3), and (4), (e)(1), (e)(2), (e)(3), (e)(4)(G), (H), and (I), (e)(5), (e)(8), (f), and (g) of the Privacy Act pursuant to 5 U.S.C. 552a(j)(2) and (k)(2). See 31 CFR 1.36.

TREASURY/CC .200

System Name:

Chain Banking Organizations System—Treasury/Comptroller.

System Location:

Office of the Comptroller of the Currency (OCC), Operations Risk Policy, 250 E Street, SW., Washington, DC 20219-0001, and the OCC's district offices as follows:

Central District Office, One Financial Place, Suite 2700, 440 South LaSalle Street, Chicago, IL 60605-1073;

Northeastern District Office, 340 Madison Avenue, Fifth Floor, New York, NY 10017-2613;

Southern District Office, 500 North Akard Street, Suite 1600, Dallas, TX 75201-3394; and

Western District Office, 1225 17th Street, Suite 300, Denver, CO 80202-5534.

Categories of Individuals Covered by the System:

Individuals covered by this system are individuals who directly, indirectly, or acting through or in concert with one or more other individuals, own or control a chain banking organization. A chain banking organization exists when two or more independently chartered financial institutions, including at least one OCC-regulated entity, are controlled either directly or indirectly by the same individual, family, or group of individuals closely associated in their business dealings. Control generally exists when the common ownership has the ability or power, directly or indirectly, to:

(1) Control the vote of 25 percent or more of any class of an organization's voting securities;

(2) Control in any manner the election of a majority of the directors of an organization; or

(3) Exercise a controlling influence over the management or policies of an organization. A registered multibank holding company and its subsidiary banks are not ordinarily considered a chain banking group unless the holding company is linked to other banking organizations through common control.

Categories of Records in the System:

Records maintained in this system contain the names of individuals who, either alone or in concert with others, own or control a chain banking organization. Other information may contain: The name, location, charter number, charter type, and date of last examination of each organization comprising a chain; the percentage of outstanding stock owned or controlled by controlling individuals or groups; and the name of any intermediate holding entity and the percentage of such entity owned or controlled by the individual or group.

Authority for Maintenance of the System:

12 U.S.C. 1, 481, 1817(j), and 1820.

Purpose:

Information maintained in this system is used by the OCC to carry out its supervisory responsibilities with respect to national banks and District of Columbia banks operating under the OCC's regulatory authority, including the coordination of examinations, supervisory evaluations and analyses, and administrative enforcement actions with other financial regulatory agencies.

Routine uses of records maintained in the system, including categories of users and the purposes of such uses:

Information maintained in this system may be disclosed to:

(1) An OCC-regulated entity when information is relevant to the entity's operation;

(2) Appropriate governmental or self-regulatory organizations when the OCC determines that the records are relevant and necessary to the governmental or self-regulatory organization's regulation or supervision of financial service providers;

(3) An appropriate governmental, tribal, self-regulatory, or professional organization if the information is relevant to a known or suspected violation of a law or licensing standard within the organization's jurisdiction;

(4) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(5) A Congressional office when the information is relevant to an inquiry made at the request of the individual about whom the record is maintained;

(6) A contractor or agent who needs to have access to this system of records to perform an assigned activity;

(7) Third parties when mandated or authorized by statute, or

(8) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records maintained in this system are stored electronically.

Retrievability:

Records maintained in this system may be retrieved by the name of an individual covered by the system.

Safeguards:

Access to electronic records is restricted to authorized personnel who have been issued non-transferrable access codes and passwords.

Retention and Disposal:

Records are retained in accordance with the OCC's records management policies and National Archives and Records Administration regulations.

System Manager and Address:

Director, Operational Risk Policy, Office of the Comptroller of the Currency, 250 E Street SW., Washington, DC 20219-0001.

Notification Procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Information maintained in this system is obtained from OCC personnel, other Federal financial regulatory agencies, and individuals who file notices of their intention to acquire control over an OCC-regulated financial institution.

Exemptions Claimed for the System:

None.

TREASURY/CC .210

System Name:

Bank Securities Dealers System—Treasury/Comptroller.

System Location:

Office of the Comptroller of the Currency (OCC), Credit and Market Risk, 250 E Street SW., Washington, DC 20219-0001.

Categories of Individuals Covered by the System:

Individuals covered by this system are individuals who are or seek to be associated with a municipal securities dealer or a government securities broker/dealer that is a national bank, Federal savings association, a District of Columbia savings association operating under the OCC's regulatory authority, or a department or division of any such bank or savings association in the capacity of a municipal securities principal, municipal securities representative, or government securities associated person.

Categories of Records in the System:

Records maintained in this system may contain an individual's name, address history, date and place of birth, social security number, educational and occupational history, certain professional qualifications and testing information, disciplinary history, or information about employment termination.

Authority for Maintenance of the System:

12 U.S.C. 1 (as amended), 481, 1464, 1818, and 1820; 15 U.S.C. 78o-4, 78o-5, 78q, and 78w.

Purpose:

This system of records will be used by the OCC to carry out its responsibilities under the Federal securities laws relating to the professional qualifications and fitness of individuals who engage or propose to engage in securities activities on behalf of national banks, Federal savings associations, and District of Columbia savings associations operating under the OCC's regulatory authority.

Routine uses of records maintained in the system, including categories of users and the purposes of such systems:

Information maintained in this system may be disclosed to:

(1) An OCC-regulated entity in connection with its filing relating to the qualifications and fitness of an individual serving or proposing to serve the entity in a securities-related capacity;

(2) Third parties to the extent needed to obtain additional information concerning the professional qualifications and fitness of an individual covered by the system;

(3) Third parties inquiring about the subject of an OCC enforcement action;

(4) Appropriate governmental or self-regulatory organizations when the OCC determines that the records are relevant and necessary to the governmental or self-regulatory organization's regulation or supervision of financial service providers, including the review of the qualifications and fitness of individuals who are or propose to become involved in the provider's securities business;

(5) An appropriate governmental, tribal, self-regulatory, or professional organization if the information is relevant to a known or suspected violation of a law or licensing standard within that organization's jurisdiction;

(6) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(7) A Congressional office when the information is relevant to an inquiry made at the request of the individual about whom the record is maintained;

(8) A contractor or agent who needs to have access to this system of records to perform an assigned activity;

(9) Third parties when mandated or authorized by statute, or

(10) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records maintained in this system are stored electronically and in file folders.

Retrievability:

Records maintained in this system may be retrieved by the name of an individual covered by the system.

Safeguards:

Access to the electronic database is restricted to authorized personnel who have been issued non-transferrable access codes and passwords. Other records are maintained in locked file cabinets or rooms.

Retention and Disposal:

Records are retained in accordance with the OCC's records management policies and National Archives and Records Administration regulations.

System Manager and Address:

Deputy Comptroller, Credit and Market Risk, Office of the Comptroller of the Currency, 250 E Street SW., Washington, DC 20219-0001.

Notification Procedure:

An individual wishing to be notified if he or she is named in non-exempt records maintained in this system must submit a written request to Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Information maintained in this system is obtained from OCC-regulated entities that are: Municipal securities dealers and/or government securities brokers/dealers; individuals who are or propose to become municipal securities principals, municipal securities representatives, or government securities associated persons; or governmental and self-regulatory organizations that regulate the securities industry.

Exemptions Claimed for the System:

None.

TREASURY/CC .220

System Name:

Notices of Proposed Changes in Employees, Officers and Directors Tracking System—Treasury/Comptroller.

System Location:

Office of the Comptroller of the Currency (OCC), Special Supervision, 250 E Street SW., Washington, DC 20219-0001.

Categories of Individuals Covered by the System:

Individuals covered by this system are those who are named in notices filed: (1) under 12 CFR 5.51 as proposed directors or senior executive officers of a national bank, or federal branches of foreign banks (Section 5.51-regulated entities) when the entities:

(a) Have a composite rating of 4 or 5 under the Uniform Financial Institutions Rating System;

(b) Are subject to cease and desist orders, consent orders, or formal written agreements, unless otherwise informed in writing by the OCC;

(c) Have been determined, in writing, by the OCC to be in “troubled condition;”

(d) Are not in compliance with minimum capital requirements prescribed under 12 CFR Part 3; or

(e) Have been advised by the OCC, in connection with its review of an entity's capital restoration plan, that such filings are appropriate.

(2) Under 12 CFR 5.20(g)(2) as proposed officers or directors of national banks (Section 5.20(g)(2) entities) for a two-year period from the date they commence business.

(3) under 12 CFR 163, Subpart H (previously 12 CFR 563, Subpart H) as proposed directors or senior executive officers of Federal savings associations (Part 163, Subpart H entities) when the entities:

(a) Are not in compliance with minimum capital requirements prescribed under 12 CFR 167 (previously 12 CFR 567);

(b) Have a composite rating of 4 or 5 under the Uniform Financial Institutions Rating system;

(c) Are subject to capital directives, cease and desist orders, consent orders, formal written agreements, or prompt corrective action directives relating to the safety and soundness or financial viability of the federal savings association, unless otherwise informed I writing by the OCC;

(d) Have been determined in writing by the OCC to be in “troubled condition;” or

(e) Have been advised by the OCC, in connection with its review of an entity's capital restoration plan required by 12 U.S.C. 1831o, that such notice is required.

(4) pursuant to 12 U.S.C. 1818(b) as proposed employees of national banks, Federal savings associations or any other entity subject to the OCC's jurisdiction (1818(b) entities), other than employees covered by 12 CFR 5.51 or 12 CFR 163, Subpart H, when required to do so pursuant to 12 U.S.C. 1818(b).”

Categories of Records in the System:

Records maintained in this electronic database may contain: the names, charter numbers, and locations of the OCC-regulated entities that have submitted notices; the names, addresses, dates of birth, and social security numbers of individuals proposed as either directors or senior executive officers; and the actions taken by the OCC in connection with these notices.

Authority for Maintenance of the System:

12 U.S.C. 1 (as amended), 27, 93a, 481, 1464, 1817(j), 1818, 1820, and 1831i.

Purpose:

Information maintained in this system is used by the OCC to carry out its statutory and other regulatory responsibilities, including other reviews of the qualifications and fitness of individuals who propose to become responsible for the business operations of OCC-regulated entities.

Routine Uses of Records Maintained in The System, including Categories of Users and the Purposes of Such Uses:

Information maintained in this system may be disclosed to:

(1) An Section 5.51 entity, a Section 5.20(g)(2) entity, a Part 163, Subpart H entity, or a Section 1818(b) entity in connection with review and action on a notice filed by that entity;

(2) Third parties to the extent necessary to obtain information that is pertinent to the OCC's review and action on a notice received under any authority cited herein;

(3) Appropriate governmental or self-regulatory organizations when the OCC determines that the records are relevant and necessary to the governmental or self-regulatory organization's regulation or supervision of financial service providers, including the review of the qualifications and fitness of individuals who are or propose to become responsible for the business operations of such providers;

(4) An appropriate governmental, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A congressional office when the information is relevant to an inquiry made at the request of the individual about whom the record is maintained;

(7) A contractor or agent who needs to have access to this system of records to perform an assigned activity;

(8) Third parties when mandated or authorized by statute, or

(9) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records maintained in this system are stored electronically.

Retrievability:

Records maintained in this system may be retrieved by the name of an individual covered by the system.

Safeguards:

Access to electronic records is restricted to authorized personnel who have been issued non-transferrable access codes and passwords.

Retention and Disposal:

Records are retained in accordance with the OCC's records management policies and National Archives and Records Administration regulations.

System Manager and Address:

Deputy Comptroller, Special Supervision, Bank Supervision Operations, Office of the Comptroller of the Currency, 250 E Street SW., Washington, DC 20219-0001.

Notification Procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document).

An individual seeking notification in person must establish his or her identity by providing proof in the form of a single official document bearing a photograph (such as a passport or identification badge) or two items of identification that bear both a name and signature. Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Information maintained in this system is obtained from OCC-regulated entities, individuals named in notices filed pursuant to 5 CFR 5.51, Federal or State financial regulatory agencies, criminal law enforcement authorities, credit bureaus, and OCC personnel.

Exemptions Claimed for the System:

Records maintained in this system have been designated as exempt from 5 U.S.C. 552a(c)(3), (d)(1), (2), (3), and (4), (e)(1), (e)(4)(G), (H), and (I), and (f) of the Privacy Act pursuant to 5 U.S.C.

TREASURY/CC 340

System Name:

Access Control System—Treasury/Comptroller.

System Location:

Office of the Comptroller of the Currency (OCC), Security Office, Office of Management, 250 E Street SW., Washington, DC 20219-001.

Categories of Individuals Covered by the System:

Individuals covered by this system are OCC employees, contractors, agents, and volunteers who have been issued an OCC identification card.

Categories of Records in the System:

Records maintained in this system may contain an individual's name, location information, picture, and authorizations to use the OCC's fitness facility or its headquarters parking garage, if applicable. This system of records also may contain time records of entrances and exits and attempted entrances and exits of OCC premises.

Authority for Maintenance of the System:

12 U.S.C. 1, 481, and 482; 5 U.S.C. 301.

Purpose:

The OCC has an access control system linked to identification cards which limits access to its premises to authorized individuals and records the time that individuals are on the premises. This system of records is used to assist the OCC in maintaining the security of its premises and to permit the OCC to identify individuals on its premises at particular times.

Routine Uses of Records Maintained in the System, Including Categories of Users and the Purposes of Such Uses:

Information maintained in this system may be disclosed to:

(1) Third parties to the extent necessary to obtain information that is relevant to an investigation concerning access to or the security of the OCC's premises;

(2) An appropriate governmental authority if the information is relevant to a known or suspected violation of a law within that organization's jurisdiction;

(3) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(4) A congressional office when the information is relevant to an inquiry made at the request of the individual about whom the record is maintained;

(5) A contractor or agent who needs to have access to this system of records to perform an assigned activity;

(6) Third parties when mandated or authorized by statute, or

(7) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records maintained in this system are stored electronically and in file folders.

Retrievability:

Records maintained in this system may be retrieved by the name of an individual covered by the system.

Safeguards:

Access to electronic records is restricted to authorized personnel who have been issued non-transferrable access codes and passwords. Other records are maintained in locked file cabinets or rooms.

Retention and Disposal:

Records are retained in accordance with the OCC's records Management policies and National Archives and Records Administration regulations.

System Manager and Address:

Assistant Director for Critical Infrastructure Protection and Security (CIPS), Office of the Comptroller of the Currency, 250 E Street SW., Washington, DC 20219-0001.

Notification Procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Information maintained in this system is obtained from individuals and the OCC's official personnel records. Information concerning entry and exit of OCC premises is obtained from identification card scanners.

Exemptions Claimed for the System:

None.

TREASURY/CC .500

System Name:

Chief Counsel's Management Information System—Treasury/Comptroller.

System Location:

Office of the Comptroller of the Currency (OCC), Office of Chief Counsel, 250 E Street SW., Washington, DC 20219-0001.

Categories of Individuals Covered by the System:

Individuals covered by the system are: Individuals who have requested information or action from the OCC; parties or witnesses in civil proceedings or administrative actions; individuals who have submitted requests for testimony and/or production of documents pursuant to 12 CFR part 4, Subpart C; individuals who have been the subjects of administrative actions or investigations initiated by the OCC, including current or former shareholders, directors, officers, employees and agents of OCC-regulated entities, current, former, or potential bank customers, and OCC employees.

Categories of Records in the System:

Records maintained in this system may contain the names of: Banks; requestors; parties; witnesses; current or former shareholders; directors, officers, employees and agents of OCC-regulated entities; current, former or potential bank customers; and current or former OCC employees. These records contain summarized information concerning the description and status of Law Department work assignments. Supporting records may include pleadings and discovery materials generated in connection with civil proceedings or administrative actions, and correspondence or memoranda related to work assignments.

Authority for Maintenance of the System:

12 U.S.C. 1, 93(d) (second), 481, 1818, and 1820.

Purpose:

This system of records is used to track the progress and disposition of OCC Law Department work assignments.

Routine uses of records maintained in the system, including categories of users and the purposes of such uses:

Information maintained in this system may be disclosed to:

(1) An OCC-regulated entity involved in an assigned matter;

(2) Third parties to the extent necessary to obtain information that is relevant to the resolution of an assigned matter;

(3) The news media in accordance with guidelines contained in 28 CFR 50.2;

(4) Appropriate governmental or self-regulatory organizations when the OCC determines that the records are relevant and necessary to the governmental or self-regulatory organization's regulation or supervision of financial service providers;

(5) An appropriate governmental, tribal, self-regulatory, or professional organization if the information is relevant to a known or suspected violation of a law or licensing standard within that organization's jurisdiction;

(6) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(7) A Congressional office when the information is relevant to an inquiry made at the request of the individual about whom the record is maintained;

(8) A contractor or agent who needs to have access to this system of records to perform an assigned activity;

(9) Third parties when mandated or authorized by statute, or

(10) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records maintained in this system are stored electronically and in file folders.

Retrievability:

Records maintained in this system may be retrieved by the name of an individual covered by the system.

Safeguards:

Access to electronic records is restricted to authorized personnel who have been issued non-transferrable access codes and passwords. Other records are maintained in locked file cabinets or rooms.

Retention and Disposal:

Records are retained in accordance with the OCC's records management policies and National Archives and Records Administration regulations.

System Manager and Address:

Executive Assistant to the Chief Counsel, Law Department, Office of the Comptroller of the Currency, 250 E Street SW., Washington, DC 20219-0001.

Notification Procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Non-exempt information maintained in this system is obtained from individuals who request information or action from the OCC, individuals who are involved in legal proceedings in which the OCC is a party or has an interest, OCC personnel, and OCC-regulated entities and other entities, including governmental, tribal, self-regulatory, and professional organizations.

Exemptions Claimed for the System:

Records maintained in this system have been designated as exempt from 5 U.S.C. 552a(c)(3) and (4), (d)(1), (2), (3), and (4), (e)(1), (e)(2), (e)(3), (e)(4)(G), (H), and (I), (e)(5), (e)(8), (f), and (g) of the Privacy Act pursuant to 5 U.S.C. 552a(j)(2) and (k)(2). See 31 CFR 1.36.

TREASURY/CC .510

System Name:

Litigation Information System—Treasury/Comptroller.

System Location:

Office of the Comptroller of the Currency (OCC), Office of Chief Counsel, Litigation Division, 250 E Street SW., Washington, DC 20219-0001.

Categories of Individuals Covered by the System:

Individuals covered by the system are parties or witnesses in civil proceedings or administrative actions, and individuals who have submitted requests for testimony or the production of documents pursuant to 12 CFR part 4, Subpart C.

Categories of Records in the System:

Records maintained in this system are those generated in connection with civil proceedings or administrative actions, such as discovery materials, evidentiary materials, transcripts of testimony, pleadings, memoranda, correspondence, and requests for information pursuant to 12 CFR part 4, Subpart C.

Authority for Maintenance of the System:

12 U.S.C. 1, 93(d) (second), 481, 1818, and 1820.

Purpose:

This system of records is used by the OCC in representing its interests in legal actions and proceedings in which the OCC, its employees, or the United States is a party or has an interest.

Routine uses of records maintained in the system, including categories of users and the purposes of such uses:

Information maintained in this system may be disclosed to:

(1) Third parties to the extent necessary to obtain information that is relevant to the subject matter of civil proceedings or administrative actions involving the OCC;

(2) The news media in accordance with guidelines contained in 28 CFR 50.2;

(3) Appropriate governmental or self-regulatory organizations when the OCC determines that the records are relevant and necessary to the governmental or self-regulatory organization's regulation or supervision of financial service providers;

(4) An appropriate governmental, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A Congressional office when the information is relevant to an inquiry made at the request of the individual about whom the record is maintained;

(7) A contractor or agent who needs to have access to this system of records to perform an assigned activity;

(8) Third parties when mandated or authorized by statute, or

(9) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records maintained in this system are stored electronically and in file folders.

Retrievability:

Records maintained in this system may be retrieved by the name of an individual covered by the system.

Safeguards:

System records are maintained in locked file cabinets or rooms and in electronic format on secure drives and media.

Retention and Disposal:

Records are retained in accordance with the OCC's records management policies and National Archives and Records Administration regulations.

System Manager and Address:

Director, Litigation Division, Law Department, Office of the Comptroller of the Currency, 250 E Street, SW., Washington, DC 20219-0001.

Notification Procedure:

An individual wishing to be notified if he or she is named in non-exempt records maintained in this system must submit a written request to the Freedom of Information Act Officer, Communications Division, Mailstop 2-3, Office of the Comptroller of the Currency, 250 E Street, SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Non-exempt information maintained in this system is obtained from: Individuals or entities involved in legal proceedings in which the OCC is a party or has an interest; OCC-regulated entities; and governmental, tribal, self-regulatory or professional organizations.

Exemptions Claimed for the System:

Records maintained in this system have been designated as exempt from 5 U.S.C. 552a(c)(3) and (4), (d)(1), (2), (3), and (4), (e)(1), (e)(2), (e)(3), (e)(4)(G), (H), and (I), (e)(5), (e)(8), (f), and (g) of the Privacy Act pursuant to 5 U.S.C. 552a(j)(2) and (k)(2). See 31 CFR 1.36.

TREASURY/CC .600

System Name:

Consumer Complaint and Inquiry Information System—Treasury/Comptroller.

System Location:

Office of the Comptroller of the Currency (OCC), Customer Assistance Group, 1301 McKinney Street, Suite 3450, Houston, TX 77010-3034.

Categories of Individuals Covered by the System:

Individuals covered by this system are individuals who submit complaints or inquiries about national banks, Federal Savings Associations, District of Columbia savings associations operating under OCC's regulatory authority, federal branches and agencies of foreign banks, or subsidiaries of any such entity (OCC-regulated entities), and other entities that the OCC does not regulate. This includes individuals who file complaints and inquiries directly with the OCC or through other parties, such as attorneys, members of Congress, or other governmental organizations.

Categories of Records in the System:

Records maintained in this system may contain: The name and address of the individual who submitted the complaint or inquiry; when applicable, the name of the individual or organization referring a matter; the name of the entity that is the subject of the complaint or inquiry; the date of the incoming correspondence and its receipt; numeric codes identifying the complaint or inquiry's nature, source, and resolution; the OCC office and personnel assigned to review the correspondence; the status of the review; the resolution date; and, when applicable, the amount of reimbursement. Supporting records may contain correspondence between the OCC and the individual submitting the complaint or inquiry, correspondence between the OCC and the regulated entity, and correspondence between the OCC and other law enforcement or regulatory bodies.

Authority for Maintenance of the System:

12 U.S.C. 1 (as amended), 481, 1464 and 1820; 15 U.S.C. 41 et seq.

Purpose:

This system of records is used to administer the OCC's Customer Assistance Program and to track the processing and resolution of complaints and inquiries.

Routine uses of records maintained in the system, including categories of users and the purposes of such uses:

Information maintained in this system may be disclosed to:

(1) An OCC-regulated entity that is the subject of a complaint or inquiry;

(2) Third parties to the extent necessary to obtain information that is relevant to the resolution of a complaint or inquiry;

(3) The appropriate governmental, tribal, self-regulatory or professional organization if that organization has jurisdiction over the subject matter of the complaint or inquiry, or the entity that is the subject of the complaint or inquiry;

(4) An appropriate governmental, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A Congressional office or appropriate governmental or tribal organization when the information is relevant to a complaint or inquiry referred to the OCC by that office or organization on behalf of the individual about whom the information is maintained;

(7) An appropriate governmental or tribal organization in communication with the OCC about a complaint or inquiry the organization has received concerning the actions of an OCC-regulated entity. Information that may be disclosed under this routine use will ordinarily consist of a description of the conclusion made by the OCC concerning the actions of such an entity and the corrective action taken, if any;

(8) A contractor or agent who needs to have access to this system of records to perform an assigned activity;

(9) Third parties when mandated or authorized by statute, or

(10) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records maintained in this system are stored electronically and in file folders.

Retrievability:

Records maintained in this system may be retrieved by the name of an individual covered by the system.

Safeguards:

Access to electronic records is restricted to authorized personnel who have been issued non-transferrable access codes and passwords. Other records are maintained in locked file cabinets or rooms.

Retention and Disposal:

Records are retained in accordance with the OCC's records management policies and National Archives and Records Administration regulations.

System Manager and Address:

Director for Ombudsman Operation, CAG Remedy System Owner, Office of the Comptroller of the Currency, 250 E Street SW., Washington, DC 20219-0001.

Notification Procedure:

An individual wishing to be notified if he or she is named in non-exempt records maintained in this system must submit a written request to the Freedom of Information Act Officer, Communications Division, Mailstop 2-3, Office of the Comptroller of the Currency, 250 E Street, SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Non-exempt information maintained in this system is obtained from individuals and entities filing complaints and inquiries, other governmental authorities, and OCC-regulated entities that are the subjects of complaints and inquiries.

Exemptions Claimed for the System:

Records maintained in this system have been designated as exempt from 5 U.S.C. 552a(c)(3), (d)(1), (2), (3), and (4), (e)(1), (e)(4)(G), (H), and (I), and (f) of the Privacy Act pursuant to 5 U.S.C. 552a(k)(2). See 31 CFR 1.36.

TREASURY/CC .700

System Name:

Correspondence Tracking System—Treasury/Comptroller.

System Location:

Office of the Comptroller of the Currency (OCC), Office of Chief Counsel, 250 E Street, SW., Washington, DC 20219-0001. Components of this record system are maintained in the Comptroller of the Currency's Office and the Chief Counsel's Office.

Categories of Individuals Covered by the System:

Individuals covered by this system are those whose correspondence is submitted to the Comptroller of the Currency or the Chief Counsel.

Categories of Records in the System:

Records maintained in this system may contain the names of individuals who correspond with the OCC, information concerning the subject matter of the correspondence, correspondence disposition information, correspondence tracking dates, and internal office assignment information. Supporting records may contain correspondence between the OCC and the individual.

Authority for Maintenance of the System:

12 U.S.C. 1; 5 U.S.C. 301.

Purpose:

This system of records is used by the OCC to track the Comptroller of the Currency's or the Chief Counsel's correspondence, including the progress and disposition of the OCC's response.

Routine Uses of Records Maintained in the System, Including Categories of Users and the Purposes of Such Uses:

Information maintained in this system may be disclosed to:

(1) The OCC-regulated entity involved in correspondence;

(2) Third parties to the extent necessary to obtain information that is relevant to the response;

(3) Appropriate governmental or self-regulatory organizations when the OCC determines that the records are relevant and necessary to the governmental or self-regulatory organization's regulation or supervision of financial service providers;

(4) An appropriate governmental, tribal, self-regulatory, or professional organization if the information is relevant to a known or suspected violation of a law or licensing standard within that organization's jurisdiction;

(5) The Department of Justice, a court, an adjudicative body, a party in litigation, or a witness if the OCC determines that the information is relevant and necessary to a proceeding in which the OCC, any OCC employee in his or her official capacity, any OCC employee in his or her individual capacity represented by the Department of Justice or the OCC, or the United States is a party or has an interest;

(6) A congressional office when the information is relevant to an inquiry made at the request of the individual about whom the record is maintained;

(7) A contractor or agent who needs to have access to this system of records to perform an assigned activity;

(8) Third parties when mandated or authorized by statute, or

(9) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records maintained in this system are stored electronically and in file folders.

Retrievability:

Records maintained in this system may be retrieved by the name of an individual covered by the system.

Safeguards:

Access to electronic records is restricted to authorized personnel who have been issued non-transferable access codes and passwords. Other records are maintained in locked file cabinets or rooms.

Retention and Disposal:

Electronic and other records are retained in accordance with the OCC's records management policies and National Archives and Records Administration regulations.

System Managers and Addresses:

Executive Assistant to the Comptroller, Office of the Comptroller of the Currency, 250 E Street SW., Washington, DC 20219-0001. Special Assistant to the Chief Counsel, Office of the Comptroller of the Currency, 250 E Street SW., Washington, DC 20219-0001.

Notification Procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature (such as credit cards). Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Information maintained in this system is obtained from individuals who submit correspondence and OCC personnel.

Exemptions Claimed for the System:

None.

TREASURY/OTS .002

System name:

Correspondence/Correspondence Tracking.

System location:

Office of the Comptroller of the Currency, 250 E Street SW., Washington, DC 20219.

Categories of individuals covered by the system:

White House and Executive Office of the President officials, Members of Congress, Treasury Department officials, the general public, and businesses.

Categories of records in the system:

Incoming correspondence addressed to the Director of OTS, letters from members of Congress transmitting letters from constituents or making inquiries, OTS responses, OTS memoranda and notes used to prepare responses, and information concerning internal office assignments, processing, and responses to the correspondence.

Purpose(s):

To maintain written records of correspondence addressed to the Director of OTS and congressional correspondence; to track the progress of the response; and to document the completion of the response to the incoming correspondence.

Routine uses of records maintained in the system, including categories of users and the purpose of such uses:

Information in these records may be used to:

(1) Make disclosures to a congressional office from the records of an individual in response to an inquiry made at the request of the individual to whom the record pertains;

(2) Disclose information to the appropriate governmental agency charged with the responsibility of administering law or investigating or prosecuting violations of law or charged with enforcing or implementing a statute, rule, regulation, order, or license;

(3) Disclose information in civil, criminal, administrative or arbitration proceedings before a court, magistrate, administrative or arbitration tribunal, in the course of pre-trial discovery, motions, trial, appellate review, or in settlement negotiations, when OTS, the Director of OTS, an OTS employee, the Department of the Treasury, the Secretary of the Treasury, or the United States is a party or has an interest in or is likely to be affected by such proceeding and an OTS attorney determines that the information is arguably relevant to that proceeding;

(4) Disclose relevant information to the Department of Justice, private counsel, or an insurance carrier for the purpose of defending an action or seeking legal advice, to assure that the agency and its employees receive appropriate representation in legal proceedings;

(5) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained in electronic media and in paper files.

Retrievability:

Records are maintained by name of individual; assignment control number.

Safeguards:

Access to paper records is limited to authorized personnel with a direct need to know. Some paper records are maintained in locked file cabinets in a secured office with access limited to those personnel whose official duties require access. Access to computerized records is limited, through the use of a password, to those whose official duties require access.

Retention and disposal:

Computerized records relating to non-congressional correspondence are retained for two (2) years after the Director's term. Computerized records relating to congressional correspondence are kept permanently. Paper records are retained for two (2) years after the Director's or member of Congress' term, then transferred directly to the National Archives.

System manager(s) and address:

Executive Assistant to the Comptroller, Office of the Comptroller of the Currency, 250 E Street SW., Washington, DC 20219-0001. Special Assistant to the Chief Counsel, Office of the Comptroller of the Currency, 250 E Street SW., Washington, DC 20219-0001.

Notification Procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record source categories:

Congressional letters and responses from a Member of Congress and/or a constituent.

Exemptions claimed for the system:

None.

TREASURY/OTS .003

System name:

OTS Consumer Complaint System.

System location:

Office of the Comptroller of the Currency, 250 E St. SW., Washington, DC, 20219.

Categories of individuals covered by the system:

Persons who submit inquiries or complaints concerning Federally insured depository institutions, service corporations, and subsidiaries.

Categories of records in the system:

Consumer's name, savings association's docket number, case number as designated by a Consumer Complaint Case number. Within these categories of records, the following information may be obtained: consumer's address, source of inquiry or complaint, nature of the inquiry or complaint, nature of the inquiry or complaint designated by instrument and complaint code, information on the investigation and resolution of inquiries and complaints.

Authority for maintenance of the system:

15 U.S.C. 57a(f), 5 U.S.C. 301.

Purpose(s).

OTS uses this system to track individual complaints and to provide additional information about each institution's compliance with regulatory requirements.

Routine uses of records maintained in the system, including categories of users and the purpose of such uses:

Information in these records may be used to:

(1) Disclose information to officials of regulated savings associations in connection with the investigation and resolution of complaints and inquiries;

(2) Make relevant information available to appropriate law enforcement agencies or authorities in connection with the investigation and/or prosecution of alleged civil, criminal, and administrative violations;

(3) Disclose information to a congressional office in response to an inquiry made at the request of the individual to whom the record pertains;

(4) Disclose information to other Federal and nonfederal governmental supervisory or regulatory authorities when the subject matter is within such other agency's jurisdiction;

(5) Disclose information in civil, criminal, administrative or arbitration proceedings before a court, magistrate, administrative or arbitration tribunal, in the course of pre-trial discovery, motions, trial, appellate review, or in settlement negotiations, when OTS, the Director of OTS, an OTS employee, the Department of the Treasury, the Secretary of the Treasury, or the United States is a party or has an interest in or is likely to be affected by such proceeding and an OTS attorney determines that the information is arguably relevant to that proceeding;

(6) Disclose relevant information to the Department of Justice, private counsel, or an insurance carrier for the purpose of defending an action or seeking legal advice, to assure that the agency and its employees receive appropriate representation in legal proceedings;

(7) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained in paper files and on electronic media.

Retrievability:

By name of individual, complaint case number, savings association name, docket number, region complaint code, instrument code, source code, or by some combination thereof.

Safeguards:

Paper records are maintained in locked file cabinets with access limited to those personnel whose official duties require access. Access to computerized records is limited, through use of the system passwords, to those whose official duties require access.

Retention and disposal:

Active paper files are maintained until the case is closed. Closed files are retained six (6) years then destroyed.

System manager(s) and address:

Ombudsman, Office of the Comptroller of the Currency, 250 E St. SW., Washington, DC 20219.

Notification procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record source categories:

Inquirer or complainant (or his or her representative which may include a member of Congress or an attorney); savings association officials and employees; compliance/safety and soundness examiner(s); and other supervisory records.

Exemptions claimed for the system:

None.

TREASURY/OTS .006

System name:

Employee Locator File.

System location:

Office of the Comptroller of the Currency, 250 E Street SW., Washington, DC 20219.

Categories of individuals covered by the system:

Employees of the former OTS and persons whose employment has been terminated within the last six months. This system is being maintained by the OCC for historical purposes. The OCC will not be adding any records to the system.

Categories of records in the system:

Employee's name, present address, telephone number, and the name, address, and telephone number of another person to notify in case of emergency.

Authority for maintenance of the system:

5 U.S.C. 301, 44 U.S.C. 3101.

Purpose(s):

This system provides current information on employee's address and emergency contact person.

Routine uses of records maintained in the system, including categories of users and the purpose of such uses:

Information in these records may be used to:

(1) Disclose information to a congressional office in response to an inquiry made at the request of the individual to whom the record pertains;

(2) Provide information to medical personnel in case of an emergency;

(3) Disclose information in civil, criminal, administrative or arbitration proceedings before a court, magistrate, administrative or arbitration tribunal, in the course of pre-trial discovery, motions, trial, appellate review, or in settlement negotiations, when OTS, the Director of OTS, an OTS employee, the Department of the Treasury, the Secretary of the Treasury, or the United States is a party or has an interest in or is likely to be affected by such proceeding and an OTS attorney determines that the information is arguably relevant to that proceeding;

(4) Disclose relevant information to the Department of Justice, private counsel, or an insurance carrier for the purpose of defending an action or seeking legal advice, to assure that the agency and its employees receive appropriate representation in legal proceedings;

(5) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained on electronic media.

Retrievability:

Records are filed by name of individual.

Safeguards:

System access is limited to those personnel whose official duties require such access and who have a need to know information in a record for a particular job-related purpose. Access to computerized records is limited, through use of a password, to those whose official duties require access.

Retention and disposal:

Records are maintained until termination of employee's employment with OTS. After termination, records are retained for six months then destroyed.

System manager(s) and address:

Director for Thrift Supervision Application Delivery, 400 7th Street SW., Washington, DC 20024

Notification procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record source categories:

The individual whose record is being maintained.

Exemptions claimed for the system:

None.

TREASURY/OTS .012

System name:

Payroll/Personnel System & Payroll Records.

System location:

Office of the Comptroller of the Currency, 250 E Street SW., Washington, DC 20219.

Categories of individuals covered by the system:

This is a legacy OTS system. It contains information about individuals who were formerly employed by the OTS and may or may not now be employed by the OCC. The records being maintained are available for read access only and for historical purposes.

Categories of records in the system:

Information pertaining to (1) employee status, grade, salary, pay plan, hours worked, hours of leave taken and earned, hourly rate, gross pay, taxes, deductions, net pay, location, and payroll history; (2) employee's residence, office, social security number, and address; (3) Personnel actions (SF-50), State employees' withholding exemption certificates, Federal employees' withholding allowance certificates (W4), Bond Allotment File (SF-1192), Federal Employee's Group Life Insurance (SF-2810 and 2811), Savings Allotment-Financial Institutions, Address File (OTS Form 108), Union Dues Allotment, time and attendance reports, individual retirement records (SF-2806), Combined Federal Campaign allotment, direct deposit, health benefits, and thrift investment elections to either the Federal Thrift Savings Plan (TSP-1) or OTS's Financial Institutions Thrift Plan (FITP-107 and K 1-2).

Authority for maintenance of the system:

5 U.S.C. 301, 44 U.S.C. 3101.

Purpose(s):

Provided all the key personnel and payroll data for each employee which is required for a variety of payroll and personnel functions.

Routine uses of records maintained in the system, including categories of users and the purpose of such uses:

(1) In the event that records maintained in this system of records indicate a violation or potential violation of law, whether civil, criminal or regulatory in nature, and whether arising by general statute or particular program statute, or by regulation, rule or order pursuant thereto, the relevant records in the system of records may be referred, as a routine use, to the appropriate agency, whether Federal, State, local, or foreign, charged with the responsibility of implementing the statute, or rule or regulation or order issued pursuant thereto.

(2) A record from this system may be disclosed to other Federal agencies and the Office of Personnel Management if necessary for or regarding the payment of salaries and expenses incident to employment at the Office of Thrift Supervision or other Federal employment, or the vesting, computation, and payment of retirement or disability benefits.

(3) A record from this system may be disclosed if necessary to support the assessment, computation, and collection of Federal, State, and local taxes, in accordance with established procedures.

(4) Disclosure of information may be made to a congressional office in response to an inquiry made at the request of the individual to whom the record pertains.

(5) Records from this system may be disclosed to the Office of Child Support Enforcement, Administration for Children and Families, Department of Health and Human Services, for the purpose of locating individuals to establish paternity, establishing and modifying orders of child support, identifying sources of income, and for other support enforcement actions as required by the Personal Responsibility and Work Opportunity Reconciliation Act (Welfare Reform Law, Pub. L. 104-193).

(6) Information from these records may be disclosed in civil, criminal, administrative or arbitration proceedings before a court, magistrate, administrative or arbitration tribunal, in the course of pre-trial discovery, motions, trial, appellate review, or in settlement negotiations, when OTS, the Director of OTS, an OTS employee, the Department of the Treasury, the Secretary of the Treasury, or the United States is a party or has an interest in or is likely to be affected by such proceeding and an OTS attorney determines that the information is arguably relevant to that proceeding.

(7) Relevant information may be disclosed to the Department of Justice, private counsel, or an insurance carrier for the purpose of defending an action or seeking legal advice, to assure that the agency and its employees receive appropriate representation in legal proceedings.

(8) Information may be disclosed to respond to State and local authorities in connection with garnishment proceedings;

(9) Information may be disclosed to private creditors for the purpose of garnishment of wages of an employee if the debt has been reduced to a judgment.

(10) Information may be disclosed to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, disposing of records in the system:

Storage:

Records are maintained on electronic media, microfiche, and in paper files.

Retrievability:

Records are filed by individual name, social security number and by office.

Safeguards:

Paper and microfiche records are maintained in secured offices and access is limited to personnel whose official duties require such access and who have a need to know the information in a record for a particular job-related purpose. Access to computerized records is limited, through the use of a password, to those whose official duties require access.

Retention and disposal:

Records are retained and disposed of in accordance with National Archives and Records Administration Approved Records Schedules.

System manager(s) and address:

Director for Accounting, Office of the Comptroller of the Currency, 250 E Street SW., Washington, DC 20219.

Notification procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record source categories:

Personnel and payroll records of current and former employees.

Exemptions claimed for the system:

None.

TREASURY/OTS .013

System Name:

Mass Communication System.

System Location:

The system is hosted at a contractor site in Burbank, California. The address of the contractor may be obtained by writing to the system manager below.

Categories of Individuals Covered:

All employees of The Office of the Comptroller of the Currency.

Categories of Records in the System:

Employee's name, home phone number, personal cell phone number, personal email address, official business phone number, official business email address, official business cell phone number.

Authority for Maintenance of the System:

Executive Order 12148, Federal Emergency Management.

Purpose:

The OCC Security Office will use the Mass Communication System to communicate with OCC personnel during and after local, regional or national emergency events, communicate with staff during and after security incidents, disseminate time sensitive information to staff, provide Human Resources and OCC Leadership with employee accountability status during emergency events, and conduct communication tests. The system is a managed service that is hosted at a contractor site. The system will allow Security staff and other authorized individuals to send messages to the OCC workforce and receive confirmation back from staff in order to help senior management assess the availability of staff during times of emergency. Employees have the right to decline to provide personal information, however, their official business contact information is entered into the system through an automated upload.

Routine Uses of Records Maintained in the system, including categories of users and the purpose of such uses:

Information in these records may be used to:

(1) Make disclosures to a congressional office from the records of an individual in response to an inquiry made at the request of the individual to whom the record pertains;

(2) Representatives of the National Archives and Records Administration (NARA) who are conducting records management inspections under authority of 44 U.S.C. 2904 and 2906.

(3) A contractor for the purpose of full filling a contract, compiling, organizing, analyzing, programming, or otherwise refining records to accomplish an agency function subject to the same limitations applicable to U.S. Department of Treasury officers and employees under the Privacy Act.

(4) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records are maintained in electronic format at the service provider's site.

Retrievability:

Records are retrieved by OCC office and individual name.

Safeguards:

Safeguards in place to prevent misuse of data include: role-based user access, the use of user ID and authorization code to access the Web site, monitoring of application access and database access, encryption of passwords stored in the database, and physical access controls to the building housing the system.

Retention and Disposal:

Records are retained and disposed of in accordance with National Archives and Records Administration General Records Schedules.

System Manager(s) and Address:

Assistant Director of Critical Infrastructure Protection & Security, 250 E St. SW., Washington, DC 20219.

Notification procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record Source Categories:

Non-exempt information maintained in this system is obtained from OCC personnel, OCC-regulated entities, other federal financial regulatory agencies, and criminal law enforcement authorities.

Exemptions claimed for the system:

None.

TREASURY/OTS .015

System Name:

Retiree Billing System.

System Location:

Office of the Comptroller of the Currency, 250 E St. SW., Washington, DC 20219.

Categories of Individuals Covered:

Former OTS Financial Institutions Retirement Fund (FIRF) retirees and OTS employees retiring under the Civil Service Retirement System or the Federal Employees Retirement System and who participate in the OTS-sponsored life insurance plan.

Categories of Records in the System:

Former OTS employee retirees' names, home phone numbers, mailing addresses, email addresses, and bank account numbers.

Authority for Maintenance of the System:

Title 12 U.S.C. 1462a (h).

Purpose:

The OTS Retiree Billing system was used to bill insurance premiums to both Financial Institutions Retirement Fund (FIRF) employees and employees who retired from OTS and had the OTS sponsored life insurance. The system is used by Payroll Accounting Specialists in the Human Resources office. Retiree name and bank account information was shared with the Financial Management Services (FMS), which is another bureau of the Treasury Department, so that retirees could be properly billed for health/insurance premiums. FMS provided Automated Clearing House (ACH) debit services on behalf of OTS; OTS provides FMS with retiree information so that FMS could perform a debit on the bank account of the retiree for the funds owed to OTS and deposit the money into an OTS account. This system is now maintained only for historical search purposes.

Routine Uses of Records Maintained in the system, including categories of users and the purpose of such uses:

Information in these records may be used to:

(1) Make disclosures to a congressional office from the records of an individual in response to an inquiry made at the request of the individual to whom the record pertains;

(2) Representatives of the National Archives and Records Administration (NARA) who are conducting records management inspections under authority of 44 U.S.C. 2904 and 2906.

(3) A contractor for the purpose of full filling a contract, compiling, organizing, analyzing, programming, or otherwise refining records to accomplish an agency function subject to the same limitations applicable to U.S. Department of Treasury officers and employees under the Privacy Act.

(4) Disclose information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and Practices for Storing, Retrieving, Accessing, Retaining, and Disposing of Records in the System:

Storage:

Records are maintained in electronic and paper format.

Retrievability:

Records are retrieved by retirees' names or social security numbers.

Safeguards:

Safeguards in place to prevent misuse of data include: role-based user access, the use of userid and authorization code to access the system, and locking paper files when not in use.

Retention and Disposal:

Records are retained and disposed of in accordance with National Archives and Records Administration General Records Schedules.

System Manager(s) and Address:

Director, Compensation and Benefits, Office of Human Resources, 250 E St. SW., Washington, DC 20219.

Notification procedure:

An individual wishing to be notified if he or she is named in non-exempt records maintained in this system must submit a written request to the Freedom of Information Act Officer, Communications Division, Mailstop 2-3, Office of the Comptroller of the Currency, 250 E Street SW., Washington, DC 20219-0001. See 31 CFR part 1, Subpart C, Appendix J.

Identification Requirements: An individual seeking notification through the mail must establish his or her identity by providing a signature and an address as well as one other identifier bearing the individual's name and signature (such as a photocopy of a driver's license or other official document). An individual seeking notification in person must establish his or her identity by providing proof in the form of a single official document bearing a photograph (such as a passport or identification badge) or two items of identification that bear both a name and signature.

Alternatively, identity may be established by providing a notarized statement, swearing or affirming to an individual's identity, and to the fact that the individual understands the penalties provided in 5 U.S.C. 552a(i)(3) for requesting or obtaining information under false pretenses.

Additional documentation establishing identity or qualification for notification may be required, such as in an instance where a legal guardian or representative seeks notification on behalf of another individual.

Record Access Procedures:

See “Notification Procedure” above.

Contesting Record Procedures:

See “Notification Procedure” above.

Record source categories:

OTS retirees and OTS payroll and personnel systems.

Exemptions claimed for the system:

None.

[FR Doc. 2012-7950 Filed 4-2-12; 8:45 am]

BILLING CODE 4810-33-P